ENVIRONMENTAL PROTECTION AGENCY

[OPP-200003; FRL-6751-8]

Technical Resource Center for Integrated Pest Management in Schools and Day Care Centers; Solicitation of Grant Proposals

AGENCY: Environmental Protection Agency (EPA).

ACTION: Notice.

SUMMARY: EPA is soliciting pre-application grant proposals and is prepared to provide up to $100,000 for the establishment of a Technical Resource Center for promoting the adoption of integrated pest management (IPM) in schools and day care centers. This Center will be regionally based (region of the country and target states to be identified by the applicant). The Center will provide information, guidance, education, training and other tools necessary for schools and day care centers to successfully launch and sustain IPM programs geared at reducing children's exposure to pests and pesticides. EPA will award a cooperative agreement with up to $100,000 in initial funding, with the possibility of additional future funding depending on the availability of funds budgeted for this purpose. Selection of the successful grantee will be made based on the evaluation of the pre-application proposal and the results of oral interviews with prospective grantees. This notice describes eligibility, activities, application procedures and requirements, and evaluation criteria.

DATES: All pre-applications must be received on or before December 15, 2000.

ADDRESSES: Submit pre-application proposals to: Katherine J. Seikel, Biopesticides and Pollution Prevention Division (7511C), Office of Pesticide Programs (OPP), Environmental Protection Agency, Ariel Rios Bldg., 1200 Pennsylvania Ave., NW., Washington, DC 20460.

FOR FURTHER INFORMATION CONTACT: For general information contact: Katherine J. Seikel, Biopesticides and Pollution Prevention Division (7511C), Office of Pesticide Programs, Environmental Protection Agency, Ariel Rios Bldg., 1200 Pennsylvania Ave., NW., Washington, DC 20460; telephone numbers: (703) 308-8272; e-mail address: seikel.kathy@epa.gov.

SUPPLEMENTARY INFORMATION:

I. Does this Notice Apply to Me?

This action is directed to all entities eligible to receive funding pursuant to the assistance award authority of FIFRA section 20. If you have any questions regarding the applicability of this action to a particular entity, consult the person listed under FOR FURTHER INFORMATION CONTACT.

II. Scope and Purpose

The cooperative agreement to be funded pursuant to this announcement will provide funding for activities designed to foster the adoption and maintenance of IPM programs in schools and day care centers in a particular region of the country, and in states to be selected by the grantee. Thus, we anticipate this center being regional—not national—in scope. Applicants are expected to provide information on how and why they have targeted a particular region of the country for IPM in schools, and on the number of schools and day care centers in the region they intend to serve (so EPA can gauge the scope and feasibility of the project plan).

Applicants should provide information on the status of IPM implementation in this region as it exists today. Applicants should also outline specific goals and include a strategic plan for changing the status quo as a result of activities funded under this assistance agreement. Applicants are encouraged to provide clear-cut, measurable goals for their work under this cooperative agreement. An example would be the number of schools and day care centers in the target region, the number of those schools and day care centers currently practicing IPM, and the number of schools/day care centers which the grantee will have engaged in the establishment of IPM programs by the end of the first year of this cooperative agreement.

The expected duration of this project is 1-2 years. The applicant has the flexibility to propose the start and end dates.

III. Eligibility

Eligible recipients are all entities eligible to receive grants under the authority of FIFRA section 20, as amended by Public Law 106-074. Eligible entities include, but are not limited to States, tribes, institutions of higher learning, non-profit organizations, for-profit businesses, and individuals.

A. General Requirements

1. There are no requirements for matching funding under this grant program. However, applicants are encouraged to seek funding from sources other than EPA to supplement the income of this Center. Applicants must identify, as part of this proposal, any funds from other sources (private or public) that will be used to carry out proposed grant projects.

2. If the applicant has conducted, or is currently working on a related project(s), please provide a brief description of those projects and funding sources in the application.

B. Administrative Reporting Requirements

The applicant must provide EPA with the original plus three copies of the Semi-annual progress reports. These reports must include:

1. Total financial expenditures for the quarter, with costs broken down by cost element, i.e. direct labor, travel costs, supplies, equipment sub contract costs, sub grantee costs, indirect costs.

2. For direct labor, provide the names and percentage time devoted to the project for each person assigned to the assistance agreement.

3. For travel costs, provide names of travelers, destinations, and purpose of trip(s).

4. For indirect costs (overhead, fringe benefits, general and administrative expenses, etc.), provide the base of allocation, the name of the cognizant audit Agency and the period for which final rates were negotiated.

5. Total estimated expenditures for the next quarter, with costs broken down by cost element and anticipated activities for the upcoming quarter.

6. Explanation of expenditures that are significantly higher or lower than projected in the original budget estimate. If expenditures are higher than originally estimated, explain how project activities will be accomplished within the originally budgeted amount or, alternatively, provide a projection of any anticipated shortfall or activities that must be reduced or curtailed to stay within the budget.

7. Justification for any anticipated changes to personnel assigned to the project or changes to the level of effort to be devoted by approved personnel. Provide curricula vitae for any proposed additions or replacements to the project team.

8. A summary statement of funds available for the budget period, expenditures by quarter for all quarters included in the budget period, and funds remaining in the budget period.

9. Explanation of any difficulties encountered during the reporting period or foreseen for future reporting periods that might hinder the recipient's accomplishment of planned project activities.

10. Technical progress, including an accounting of all work shops attended and held, training provided, consultations, tally of phone calls to 800 number, amount and nature of all written materials distributed to outside parties, number of facilities that have launched new IPM programs, and any other measures that can serve as measures of grantee progress toward institutionalization of IPM programs in schools falling within its target zone. The technical progress report should also provide information on obstacles encountered, unforseen difficulties or any other indicators that program objectives may not be accomplished on time and reasonably in conformance with anticipated project costs.

In addition to periodic progress reports, the grantee shall furnish the EPA Project Officer ALL materials developed or maintained by the Center. The Government reserves the right to cite, distribute, and otherwise use these materials for public purposes which extend beyond the scope of this assistance agreement.

IV. Authority

The Federal Insecticide, Fungicide and Rodenticide Act (FIFRA), section 20, Research, as amended by Pubic Law 106-074 authorizes EPA to award grants for the purpose of conducting research, development, and monitoring as necessary, “Provided that, notwithstanding any other provisions of law, beginning in FY 2000 [October 1, 1999] and thereafter, grants awarded under section 20 of FIFRA, as amended, shall be available for research, development, monitoring, public education, training, demonstrations, and studies.”

V. Activities to be Funded

EPA will provide financial assistance in the form of a cooperative agreement to fund a Technical Resource Center for IPM in schools to fund activities proposed by the grantee, in consultation with EPA. These activities may include:

1. Establishing programs to increase public awareness of IPM and undertaking all such actions as may be necessary to aggressively promote the adoption of IPM programs by schools and day care centers in the target region.

2. Creating awareness of IPM to prospective school administrators or other decision-makers through effective use of outreach and other communications strategies. (This might include publication of newsletters, development of a web page, providing a toll-free telephone line, etc.).

3. Coordinating development and distribution of guidance and other resources necessary for successful implementation of IPM in schools and day care centers falling within the region targeted by the grantee. This could include user friendly best practices, “how-to” guides, pest specific management tips, etc. Much of this guidance already exists; therefore, it is expected that the center would devote substantially more effort toward assessing the value of existing tools for schools (guidance, handbook, video and audio tapes, etc.) and determining which is best suited for widespread distribution than on developing new materials.

4. Building and maintaining a library of all applicable state-developed school IPM materials.

5. Establishing a core group of nationally recognized school IPM trainers and consultants. Providing training and work shops for groups such as school administrators, facilities services staff, food services staff, and teachers.

6. Maintaining a database and communications network. This could involve some new development but should, to the extent possible, draw upon existing resources to avoid re-inventing the wheel and to maximize the application of grant funds toward the diffusion of IPM in targeted schools districts. In all likelihood, this will require establishing a toll free 800 number to handle call-ins.

7. Finding and filling information gaps to facilitate adoption of IPM in schools.

8. Developing training efforts such as a national short course on IPM at the Center's location, symposia and on-site visits for coordinators of new and existing programs, etc.

9. Measuring the effectiveness of local IPM efforts through use of model guidelines for IPM training and implementation or other methods developed by the cooperator.

10. Creating guidance for schools to self-evaluate (or for outside parties to evaluate) schools' implementation of IPM.

11. Providing assistance to the State Pest Control Associations and the National Pest Management Association in training Pest Control Operators on school IPM implementation.

VI. Pre-Application Requirements, Procedures, and Schedule

Applicants must submit a proposal for the pre-application procedure. The pre-application, as described in this unit, consists of two parts—a work plan and a budget.

The Agency will use the applicant's work plan and budget to select projects to be funded under this grant program. After EPA conducts a review of all pre-applications, it may, at its discretion, conduct interviews, either telephonically or in person, with applicants. The results of the interview, along with written material accompanying the proposal submission, will be used to determine the successful applicant. The successful applicant will be contacted and requested to submit other documents (such as the “Application for Federal Assistance” form, a “Budget Information: Non-Construction Programs” form, and other required forms) to complete the application process.

All applicants must submit one original and three copies of the pre-application (double-sided copies). Pre-applications must be reproducible (for example, stapled in the upper left-hand corner, on white paper, and with page numbers). The deadline for EPA's receipt of pre-applications is December 15, 2000.

The pre-application consists of the following two parts.

1. Work plan. The work plan must describe the proposed project. The work plan must be no more than 15-typed pages in length (excluding resumes). One page is one side of a single-spaced typed page. The pages must be letter size (10 or 12 characters per inch (cpi) and must have margins that are at least 1 inch.

Resumes of key personnel shall be included in an appendix to the proposal and should include references (names, phone numbers or other contact information) for previous or current grants or contracts within the last 5 years. The appendix must be no more than 10 pages total and follows the same paging and spacing description as provided above.)

2. Budget. The budget should include the following categories of costs:

A. Personnel

B. Fringe benefits

C. Travel

D. Equipment

E. Supplies

F. Contractual

G. Other

H. Total direct charges (sum of personnel, fringe benefits, travel, equipment, supplies, contractual, and other)

I. Indirect charges and total (sum of total direct charges and indirect charges)

VII. Evaluation Criteria

EPA will review all applications. Applications will be reviewed for quality, strength, and completeness against the following criteria:

1. Management plan and technical approach. This will include, among other things, the plan for making use of available resources to stock the center, plan for becoming financially self-sufficient, strategy for determining the order of priority for introducing IPM into various states and school districts, etc. Applicant must include reasonable and attainable goals and an approach that is clearly detailed. The plan should include expected outcomes and procedures that will be used to evaluate progress toward achievement of these outcomes. Applicant should provide information on projects of similar scope and magnitude that he/she has managed.

2. Technical expertise. This includes qualifications, education, training and field experience of all staff assigned to the project. The applicant should describe positions of staff, roles and responsibilities, and their qualifications. Applicant should include documentation of qualified expert staff who may be used as a reference but may not be directly compensated.

3. Budget and schedule. This budget and schedule will be evaluated to ensure they are reasonable, clear, and consistent with the intended use of the funds. Applicants should assume that this project will be funded for 18 months to 2 years only. The availability of funds for additional time periods is not known at this point in time. EPA's role is to provide start-up funding for the center. It is anticipated that the center will ultimately become self-sustaining.

VIII. Submission to Congress and the Comptroller General

Under the Agency's current interpretation of the definition of a “rule,” grant solicitations such as this which are competitively awarded on the basis of selection criteria, are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects

Environmental protection, children's health, pesticides.

Dated: November 8, 2000.
Janet L. Andersen,
Director, Biopesticides and Pollution Prevention Division, Office of Pesticide Programs.

[FR Doc. 00-29512 Filed 11-16-00; 8:45 am]

BILLING CODE 6560-50-S